DEPARTMENT OF THE TREASURY

Internal Revenue Service

Art Advisory Panel—Notice of Availability of Report of 2017 Closed Meetings

AGENCY: Internal Revenue Service, Treasury.

ACTION: Notice.

SUMMARY: Pursuant to the Federal Advisory Committee Act, and the Government in the Sunshine Act, a report summarizing the closed meeting activities of the Art Advisory Panel during Fiscal Year 2017 has been prepared. A copy of this report has been filed with the Assistant Secretary for Management of the Department of the Treasury.

DATES: Effective Date: This report is available August 2, 2018.

ADDRESSES: The report is available at https://www.irs.gov/compliance/appeals/art-appraisal-services.

FOR FURTHER INFORMATION CONTACT: Maricarmen R. Cuello, AP:SPR:AAS, Internal Revenue Service/Appeals, 51 SW 1st Avenue, Room 1014, Miami, FL 33130, Telephone number (305) 982-5364 (not a toll free number).

SUPPLEMENTARY INFORMATION: Pursuant to 5 U.S.C. App. 2, section 10(d), of the Federal Advisory Committee Act, and 5 U.S.C. 552b, of the Government in the Sunshine Act, a report summarizing the closed meeting activities of the Art Advisory Panel during Fiscal Year 2017 has been prepared. A copy of this report has been filed with the Assistant Secretary for Management of the Department of the Treasury.

It has been determined that this document is not a major rule as defined in Executive Order 12291 and that a regulatory impact analysis is, therefore, not required. Additionally, this document does not constitute a rule subject to the Regulatory Flexibility Act (5 U.S.C. chapter 6).

Donna Hansberry,
Chief, Appeals.

[FR Doc. 2018-17286 Filed 8-10-18; 8:45 am]

BILLING CODE 4830-01-P